DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of September 2014.

The National Advisory Committee on Rural Health and Human Services will convene its seventy sixth meeting in the time and place specified below:

Name: National Advisory Committee on Rural Health and Human Services.

Dates and Time: September 24, 2014, 8:45 a.m.-5:00 p.m. September 25, 2014, 8:30 a.m.-5:30 p.m. September 26, 2014, 8:30 a.m.-11:00 a.m.

Place: Avera eHelm, 4500 N Lewis Ave, Sioux Falls, SD 57104, (605) 322-4669.

Status: The meeting will be open to the public.

Purpose: The National Advisory Committee on Rural Health and Human Services provides counsel and recommendations to the Secretary with respect to the delivery, research, development, and administration of health and human services in rural areas.

Agenda: Wednesday morning, at 8:45 a.m., the meeting will be called to order by the Chairperson of the Committee: The Honorable Ronnie Musgrove. The Committee will assess how telehealth coverage opportunities in rural areas are affected by the Affordable Care Act. The Committee will also examine the issue of rural domestic violence. The day will conclude with a period of public comment at approximately 4:45 p.m.

Thursday morning at approximately 8:30 a.m., the Committee will break into Subcommittees and depart for site visits to health care and human services providers in South Dakota and Minnesota. Subcommittees will visit the Pipestone County Medical Center and the Good Samaritan Society in Pipestone, Minnesota, and the Horizon Health Clinic in Howard, South Dakota. The day will conclude at the Avera eHelm with a period of public comment at approximately 5:15 p.m.

Friday morning at 8:30 a.m., the Committee will meet to summarize key findings and develop a work plan for the next quarter and the following meeting.

For further information contact: Steve Hirsch, MSLS, Executive Secretary, National Advisory Committee on Rural Health and Human Services, Health Resources and Services Administration, Parklawn Building, 17W29-C, 5600 Fishers Lane, Rockville, Maryland 20857, telephone (301) 443-0835, or fax (301) 443-2803.

Persons interested in attending any portion of the meeting should contact Catherine Fontenot at the Office of Rural Health Policy (ORHP) via telephone at (301) 945-0897or by email at cfontenot@hrsa.gov. The Committee meeting agenda will be posted on the Committee's Web site at http://www.hrsa.gov/advisorycommittees/rural/.

Dated: August 1, 2014.
Jackie Painter,
Acting Director, Division of Policy and Information Coordination.

[FR Doc. 2014-18735 Filed 8-7-14; 8:45 am]

BILLING CODE 4165-15-P